ENVIRONMENTAL PROTECTION AGENCY

[9961-40-Region 2]

Proposed CERCLA Cost Recovery Settlement for the Puerto Rico Electric Power Authority Palo Seco Superfund Site, Toa Baja, Puerto Rico

AGENCY: Environmental Protection Agency (EPA).

ACTION: Notice; request for public comment.

SUMMARY: In accordance with the Comprehensive Environmental Response, Compensation, and Liability Act of 1980, as amended (“CERCLA”), notice is hereby given by the U.S. Environmental Protection Agency (“EPA”), Region 2, of a proposed cost recovery settlement agreement pursuant to CERCLA, with the Puerto Rico Electric Power Authority (“PREPA”) concerning the PREPA Palo Seco Superfund Site (“Site”), located between Ensenada de Boca Vieja and San Juan Bay in Toa Baja, Puerto Rico.

DATES: Comments must be submitted on or before July 7, 2017.

ADDRESSES: The proposed settlement is available for public inspection at EPA Region 2 offices at 290 Broadway, New York, New York 10007-1866. Comments should reference the PREPA Palo Seco Superfund Site, Toa Baja, Puerto Rico, Index No. II-CERCLA-02-2017-2014. To request a copy of the proposed settlement agreement, please contact the EPA employee identified below.

FOR FURTHER INFORMATION CONTACT: Margo Ludmer, Assistant Regional Counsel, New York/Caribbean Superfund Branch, Office of Regional Counsel, U.S. Environmental Protection Agency, 290 Broadway, 17th Floor, New York, NY 10007-1866. Email: ludmer.margo@epa.gov. Telephone: 212-637-3187.

SUPPLEMENTARY INFORMATION: PREPA agrees to pay EPA $1,000,000.00, plus an additional sum for interest, in reimbursement of EPA's past response costs paid at or in connection with the Site. Payment is to be made in three installments within two years and thirty days of the effective date of the settlement agreement. The settlement includes a covenant by EPA not to sue or to take administrative action against PREPA pursuant to Section 107(a) of CERCLA, 42 U.S.C. 9607(a), with regard to the response costs related to the work at the Site enumerated in the settlement agreement.

For thirty (30) days following the date of publication of this notice, EPA will receive written comments relating to the settlement. EPA will consider all comments received and may modify or withdraw its consent to the settlement if comments received disclose facts or considerations that indicate that the proposed settlement is inappropriate, improper, or inadequate.

EPA's response to any comments received will be available for public inspection at EPA Region 2, 290 Broadway, New York, New York 10007-1866.

Dated: March 8, 2017.
John Prince,
Acting Director, Emergency and Remedial Response Division, U.S. Environmental Protection Agency, Region 2.

[FR Doc. 2017-11461 Filed 6-6-17; 8:45 am]

BILLING CODE 6560-50-P